DEPARTMENT OF HEALTH AND HUMAN SERVICES

National Institutes of Health

National Institute of Diabetes and Digestive and Kidney Diseases; Amended Notice of Meeting

Notice is hereby given of a change in the meeting of the Digestive Diseases and Nutrition C Study Section, March 13, 2024, 05:00 p.m. to March 15, 2024, 05:00 p.m., National Institutes of Health, NIDDK, Democracy II, Suite 7000A, 6707 Democracy Boulevard, Bethesda, MD 20892 which was published in the Federal Register on February 09, 2024, 89 FR 9164.

This meeting was amended to change the start and end date from March 13-15, 2024 to March 27-28, 2024. The meeting is closed to the public.

Dated: March 11, 2024.
Miguelina Perez,
Program Analyst, Office of Federal Advisory Committee Policy.

[FR Doc. 2024-05440 Filed 3-13-24; 8:45 am]

BILLING CODE 4140-01-P